DEPARTMENT OF LABOR

Employment and Training Administration

Notice of Negative Determination on Reconsideration

TA-W-70,949 Chrysler LLC

Mopar Parts Distribution Center Center Line, Michigan

TA-W-70,949A Chrysler LLC

Mopar Parts Distribution Center Naperville, Illinois

TA-W-70,949B Chrysler LLC

Mopar Parts Distribution Center New Boston, Michigan

TA-W-70,949C Chrysler LLC

Mopar Parts Distribution Center Beaverton, Oregon

TA-W-70,949D Chrysler LLC

Mopar Parts Distribution Center Carrollton, Texas

TA-W-70,949E Chrysler LLC

Mopar Parts Distribution Center Fontana, California

TA-W-70,949F Chrysler LLC

Mopar Parts Distribution Center Lathrop, California

TA-W-70,949G Chrysler LLC

Mopar Parts Distribution Center Denver, Colorado

TA-W-70,949H Chrysler LLC

Mopar Parts Distribution Center Ontario, California

TA-W-70,949I Chrysler LLC

Mopar Parts Distribution Center Hazelwood, Missouri

TA-W-70,949J Chrysler LLC

Mopar Parts Distribution Center Morrow, Georgia

TA-W-70,949K Chrysler LLC

Mopar Parts Distribution Center Memphis, Tennessee

TA-W-70,949L Chrysler LLC

Mopar Parts Distribution Center Tappan, New York

TA-W-70,949M Chrysler LLC

Mopar Parts Distribution Center Mansfield, Massachusetts

TA-W-70,949N Chrysler LLC

Mopar Parts Distribution Center Plymouth, Minnesota

TA-W-70,949O Chrysler LLC

Mopar Parts Distribution Center Streetsboro, Ohio

TA-W-70,949P Chrysler LLC

Mopar Parts Distribution Center Orlando, Florida

TA-W-70,949Q Chrysler LLC

Mopar Parts Distribution Center Milwaukee, Wisconsin

TA-W-70,949R Chrysler LLC

Mopar Parts Distribution Center Warren, Michigan

TA-W-70,949S Chrysler LLC

Mopar Parts Distribution Center Marysville, Michigan

On October 7, 2010, the Department of Labor issued an Affirmative Determination Regarding Application for Reconsideration for the workers and former workers of the subject facilities. The workers are engaged in activities related to the supply of warehousing and distribution services related to automotive parts.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified

The negative determination was based on the findings that there was no increase in imports of services like or directly competitive with those supplied by the subject workers and no shift to/acquisition from a foreign country by the workers' firm in the supply of services like or directly competitive with those supplied by the subject workers.

The request for reconsideration asserts that the workers are eligible to apply for Trade Adjustment Assistance (TAA) as adversely-affected secondary workers because they “provide replacement and accessory parts for new vehicles” and identified firms that employed worker groups eligible to apply for TAA.

Section 222(d) of the Act, 19 U.S.C. 2272(d), defines the term “Supplier” as “a firm that produces and supplies directly to another firm component parts for articles, or services used in the production of articles or in the supply of services, as the case may be, that were the basis for a certification of eligibility under subsection (a) [of Section 222 of the Act] of a group of workers employed by such other firm.”

Section 222(d) of the Act, 19 U.S.C. 2272(d), defines the term “Downstream Producer” as “a firm that performs additional, value-added production processes or services directly for another firm for articles or services with respect to which a group of workers in such other firm has been certified under subsection (a) [of Section 222 of the Act]” and defines the term “value-added production processes or services” to “include final assembly, finishing, testing, packaging, or maintenance or transportation services.”

During the reconsideration investigation, the Department received information that confirmed that the subject facilities are not a “supplier” or a “downstream producer” within the meaning of the Trade Act of 1974, as amended.

The subject facilities do not produce and directly supply component parts (or services) to a firm that both employed a worker group eligible to apply for TAA and directly used the component parts (or services) in the production of the article or in the supply of the service that was the basis for the TAA certification, and do not perform downstream producer services for a firm that both employed a worker group eligible to apply for TAA and directly used the service in the production of the article or in the supply of the service that was the basis for the TAA certification.

Rather, the subject facilities separate, consolidate and package finished parts that are produced by others, and ship the packages to Chrysler points of contacts, who then forward the packages to car dealerships who ordered the parts on behalf of the dealership's customers.

Conclusion

After reconsideration, I affirm the original notice of negative determination of eligibility to apply for worker adjustment assistance for workers and former workers of Chrysler LLC, Mopar Parts Distribution Center in Center Line, Michigan (TA-W-70,949); Naperville, Illinois (TA-W-70,949A); New Boston, Michigan (TA-W-70,949B); Beaverton, Oregon (TA-W-70,949C0; Carrollton, Texas (TA-W-70,949D); Fontana, California (TA-W-70,949E); Lathrop, California (TA-W-70,949F); Denver, Colorado (TA-W-70,949G); Ontario, California ((TA-W-70,949H); Hazelwood, Missouri (TA-W-70,949I); Morrow, Georgia (TA-W-70,949J); Memphis, Tennessee (TA-W-70,949K); Tappan, New York (TA-W-70,949L); Mansfield, Massachusetts (TA-W-70,949M); Plymouth, Minnesota (TA-W-70,949N); Streetsboro, Ohio (TA-W-70,949O); Orlando, Florida (TA-W-70,949P); Milwaukee, Wisconsin (TA-W-70,949Q); Warren, Michigan (TA-W-70,949R); and Marysville, Michigan (TA-W-70,949S).

Signed in Washington, DC, on this 2nd day of May, 2011.
Del Min Amy Chen,
Certifying Officer, Office of Trade Adjustment Assistance.

[FR Doc. 2011-11638 Filed 5-11-11; 8:45 am]

BILLING CODE P